DEPARTMENT OF AGRICULTURE

Agricultural Marketing Service

[Document Number AMS-SC-19-0058, SC-19-332]

United States Standards for Grades of Frozen Corn on the Cob

AGENCY: Agricultural Marketing Service, USDA.

ACTION: Notice and request for comments.

SUMMARY: The Agricultural Marketing Service (AMS) of the Department of Agriculture (USDA) is soliciting comments on its proposal to revise the U.S. Standards for Grades of Frozen Corn on the Cob (July 27, 1970). AMS is proposing to replace the two-term grading system (dual nomenclature) with a single term to describe each quality level in the grade standards. Terms using the letter grade would be retained and the descriptive term would be eliminated. Editorial changes would also be made to the grade standards that conform to recent changes made in other grade standards, returning previously omitted headers and language, and adding language to bring the standards up to date with current industry practices. These changes would bring the grade standards in line with the present quality levels being marketed today and provide guidance in the effective use of these products.

DATES: Comments must be submitted on or before December 21, 2020.

ADDRESSES: Interested persons are invited to submit written comments to the USDA, Specialty Crops Inspection Division, 100 Riverside Parkway, Suite 101, Fredericksburg, VA 22406; by fax to (202) 690-1527; or at www.regulations.gov. Comments should reference the dates and page number of this issue of the Federal Register. Comments will be posted without change, including any personal information provided. All comments received within the comment period will become part of the public record maintained by the Agency and will be made available to the public via www.regulations.gov.

FOR FURTHER INFORMATION CONTACT: Brian E. Griffin, at the address above, by phone to (202) 748-2155; fax to (202) 690-1527; or email to Brian.Griffin@usda.gov. Copies of the proposed revised U.S. Standards for Grades of Frozen Corn on the Cob are available at www.regulations.gov. Copies of the current U.S. Standards for Grades of Frozen Corn on the Cob are available on the Specialty Crops Inspection Division website at www.ams.usda.gov/grades-standards/vegetables.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: www.ams.usda.gov/grades-standards/vegetables. AMS is proposing revisions to these U.S. Standards for Grades using the procedures that appear in part 36 of Title 7 of the Code of Federal Regulations (7 CFR part 36).

Background: AMS periodically reviews the grade standards for usefulness in serving the industry. More recently developed grade standards use a single term, such as “U.S. Grade A” or “U.S. Grade B,” to describe each level of quality within a grade standard. Older grade standards used dual nomenclature, such as “U.S. Grade A or U.S. Fancy” and “U.S. Grade B or U.S. Extra Standard” to describe the same level of quality. The terms “U.S. Fancy,” and “U.S. Extra Standard” would be removed and the terms “U.S. Grade A,” U.S. Grade B,” and “Substandard (Sstd)” would be used exclusively.

AMS is also proposing editorial changes to these grade standards, i.e., updating section headings omitted in previous revisions, and the inclusion of language and allowances for mixed color varieties to align the standards with use of mixed color varieties by industry. The addition of language and allowances differentiating between conventional sweet and supersweet types incorporates language from USDA internal guidance documents A-412, September 1967 Frozen Whole Kernel Whole-Grain Corn Evaluation of Tenderness and Maturity, and A-493, October 1997, Interpretative Guide for Frozen Supersweet Whole Kernel Corn to Determine: Tenderness and Maturity; and Flavor. These internal USDA documents were created with the intention of incorporating them into the standards to reflect current industry practices. The proposed revisions to these grade standards would provide a common language for trade and better reflect the current marketing of frozen corn on the cob.

A 60-day period is provided for interested persons to submit comments on the proposed grade standards. Copies of the proposed revised U.S. Standards for Grades of Frozen Corn on the Cob are available at www.regulations.gov. After the 60-day comment period, AMS will move forward in accordance with 7 CFR 36.3(a)(1-3).

(Authority: 7 U.S.C. 1621-1627.)

Bruce Summers,
Administrator, Agricultural Marketing Service.

[FR Doc. 2020-23220 Filed 10-20-20; 8:45 am]

BILLING CODE 3410-02-P